DEPARTMENT OF HOMELAND SECURITY

Federal Emergency Management Agency

[Docket ID FEMA-2021-0002; Internal Agency Docket No. FEMA-B-2130]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Madison (21-04-0412P). | The Honorable Paul Finley, Mayor, City of Madison, 100 Hughes Road, Madison, AL 35758. | Engineering Department, 100 Hughes Road, Madison, AL 35758. | https://msc.fema.gov/portal/advanceSearch. | Apr. 15, 2021 | 010308
Madison | Unincorporated areas of Madison County (21-04-0412P). | The Honorable Dale W. Strong, Chairman, Madison County Commission, 100 North Side Square, Huntsville, AL. 35801. | Madison County Public Works Department, 266-C Shields Road, Huntsville, AL 35811. | https://msc.fema.gov/portal/advanceSearch. | Apr. 15, 2021 | 010151
Colorado:
Douglas | Town of Castle Rock (20-08-0649P). | The Honorable Jason Gray, Mayor, Town of Castle Rock, 100 North Wilcox Street, Castle Rock, CO 80104. | Stormwater Department, 175 Kellog Street, Castle Rock, CO 80109. | https://msc.fema.gov/portal/advanceSearch. | Aug. 6, 2021 | 080050
Douglas | Unincorporated areas of Douglas County, (20-08-0649P). | The Honorable Lora Thomas, Chair, Douglas County Board of Commissioners, 100 3rd Street, Castle Rock, CO 80104. | Douglas County Department of Public Works, Engineering, 100 3rd Street, Castle Rock, CO 80104. | https://msc.fema.gov/portal/advanceSearch. | Aug. 6, 2021 | 080049
Florida:
Brevard | City of Cocoa, (20-04-1578P). | The Honorable Mike Blake, Mayor, City of Cocoa, 65 Stone Street, Cocoa, FL 32922. | City Hall, 65 Stone Street, Cocoa, FL 32922. | https://msc.fema.gov/portal/advanceSearch. | Jul. 13, 2021 | 120020
Monroe | Unincorporated areas of Monroe County (21-04-0382P). | The Honorable Michelle Coldiron, Mayor, Monroe County Board of Commissioners, 25 Ships Way, Big Pine Key, FL 33042. | Monroe County Building Department, 2798 Overseas Highway, Suite 300, Marathon, FL 33050. | https://msc.fema.gov/portal/advanceSearch. | Jul. 26, 2021 | 125129
Monroe | Unincorporated areas of Monroe County (21-04-1224P). | The Honorable Michelle Coldiron Mayor, Monroe County Board of Commissioners 25 Ships Way Big Pine Key, FL 33042. | Monroe County Building Department 2798 Overseas Highway, Suite 300 Marathon, FL 33050. | https://msc.fema.gov/portal/advanceSearch. | Jul. 26, 2021 | 125129
Palm Beach | Town of Hypoluxo (20-04-4389P). | The Honorable Michael C. Brown Mayor, Town of Hypoluxo 7580 South Federal Highway Hypoluxo, FL 33462. | Town Hall 7580 South Federal Highway Hypoluxo, FL 33462. | https://msc.fema.gov/portal/advanceSearch. | Jul. 20, 2021 | 120207
Polk | Unincorporated areas of Polk County (20-04-2054P). | The Honorable Rick Wilson Chairman, Polk County Board of Commissioners P.O. Box 9005, Drawer BC01 Bartow, FL 33831. | Polk County Land Development Division 330 West Church Street Bartow, FL 33831. | https://msc.fema.gov/portal/advanceSearch. | Aug. 5, 2021 | 120261
Georgia: Columbia | Unincorporated areas of Columbia County (20-04-4680P). | The Honorable Douglas R. Duncan, Jr., Chairman, Columbia County Board of Commissioners, 630 Ronald Reagan Drive, Building B, Evans, GA 30809. | Columbia County Engineering Services Division, Stormwater Compliance Department, 630 Ronald Reagan Drive, Building A, Evans, GA 30809. | https://msc.fema.gov/portal/advanceSearch. | Jul. 22, 2021 | 130059
Louisiana: Ouachita | Unincorporated areas of Ouachita Parish (20-06-2168P). | The Honorable Shane Smiley, President, Ouachita Parish Police Jury, 301 South Grand Street, Suite 201, Monroe, LA 71201. | Ouachita Parish Floodplain Manager's Office, 1650 DeSiard Street, Suite 202, Monroe, LA 71201. | https://msc.fema.gov/portal/advanceSearch. | Jul. 23, 2021 | 220135
Maryland: Howard | Unincorporated areas of Howard County (20-03-1198P). | The Honorable Calvin Ball, Howard County Executive, 3430 Court House Drive, Ellicott City, MD 21043. | Howard County Department of Public Works, Bureau of Environmental Services 9801 Broken Land Parkway Columbia, MD 21046. | https://msc.fema.gov/portal/advanceSearch. | Jun. 25, 2021 | 240044
Montana:
Gallatin | City of Bozeman (20-08-0500P). | Mr. Jeff Mihelich, City of Bozeman Manager, 121 North Rouse Avenue, Bozeman, MT 59715. | City Hall, 20 East Olive Street, Bozeman, MT 59715. | https://msc.fema.gov/portal/advanceSearch. | Jul. 12, 2021 | 300028
Gallatin | Unincorporated areas of Gallatin County (20-08-0500P). | The Honorable Scott MacFarlane, Chairman, Gallatin County Commission, 311 West Main Street, Room 306, Bozeman, MT 59715. | Gallatin County Department of Planning and Community Development, 311 West Main Street, Room 108, Bozeman, MT 59715. | https://msc.fema.gov/portal/advanceSearch. | Jul. 12, 2021 | 300027
North Carolina:
Forsyth | City of Winston-Salem (21-04-1235X). | The Honorable Allen Joines, Mayor, City of Winston-Salem, P.O. Box 2511, Winston-Salem, NC 27102. | City of Winston-Salem Inspection Department, 100 East 1st Street, Suite 328, Winston-Salem, NC 27101. | https://msc.fema.gov/portal/advanceSearch. | Jul. 8, 2021 | 375360
Forsyth | Unincorporated areas of Forsyth County (21-04-1235X). | The Honorable David R. Plyler, Chairman, Forsyth County Board of Commissioners, 201 North Chestnut Street, Winston-Salem, NC 27101. | Forsyth County Planning Board Office, 309 East Market Street, Smithfield, NC 27577. | https://msc.fema.gov/portal/advanceSearch. | Jul. 8, 2021 | 375349
Oklahoma: Tulsa | City of Owasso (20-06-3124P). | Mr. Warren Lehr, City of Owasso Manager, 200 South Main Street, Owasso, OK 74055. | Public Works Department, 301 West 2nd Avenue, Owasso, OK 74055. | https://msc.fema.gov/portal/advanceSearch. | Jul. 22, 2021 | 400210
South Carolina:
Georgetown | Unincorporated areas of Georgetown County (21-04-0982P). | Ms. Angela Christian Georgetown County Administrator 716 Prince Street Georgetown, SC 29440. | Georgetown County Building Department 129 Screven Street Georgetown, SC 29440. | https://msc.fema.gov/portal/advanceSearch. | Aug. 5, 2021 | 450085
Horry | City of North Myrtle Beach (21-04-0131P). | Mr. Michael Mahaney City of North Myrtle Beach Manager 1018 2nd Avenue South North Myrtle Beach, SC 29582. | Planning and Development Department 1018 2nd Avenue South North Myrtle Beach, SC 29582. | https://msc.fema.gov/portal/advanceSearch. | Jul. 26, 2021 | 450110
Texas:
Bexar | City of Converse (21-06-0348X). | The Honorable Al Suarez Mayor, City of Converse 406 South Seguin Converse, TX 78109. | City Hall 406 South Seguin Converse, TX 78109. | https://msc.fema.gov/portal/advanceSearch. | Jun. 21, 2021 | 480038
Bexar | City of Live Oak (20-06-1270P). | The Honorable Mary M. Dennis Mayor, City of Live Oak 8001 Shin Oak Drive Live Oak, TX 78233. | City Hall 8001 Shin Oak Drive Live Oak, TX 78233. | https://msc.fema.gov/portal/advanceSearch. | Jul. 6, 2021 | 480043
Bexar | City of San Antonio (20-06-1270P). | The Honorable Ron Nirenberg Mayor, City of San Antonio P.O Box 839966 San Antonio, TX 78283. | Transportation and Capital Improvement, Storm Water Division 114 West Commerce Street San Antonio, TX 78205. | https://msc.fema.gov/portal/advanceSearch. | Jul. 6, 2021 | 480045
Bexar | City of San Antonio (21-06-0487P). | The Honorable Ron Nirenberg Mayor, City of San Antonio P.O Box 839966 San Antonio, TX 78283. | Transportation and Capital Improvement, Storm Water Division 114 West Commerce Street San Antonio, TX 78205. | https://msc.fema.gov/portal/advanceSearch. | Jul. 6, 2021 | 480045
Bexar | City of Selma (20-06-1270P). | The Honorable Tom Daly Mayor, City of Selma 9375 Corporate Drive Selma, TX 78154. | City Hall 9375 Corporate Drive Selma, TX 78154. | https://msc.fema.gov/portal/advanceSearch. | Jul. 6, 2021 | 480046
Bexar | City of Universal City (21-06-0348X). | The Honorable John Williams Mayor, City of Universal City 2150 Universal City Boulevard Universal City, TX 78148. | Department of Stormwater 2150 Universal City Boulevard Universal City, TX 78148. | https://msc.fema.gov/portal/advanceSearch. | Jun. 21, 2021 | 480049
Cherokee | City of Rusk (20-06-2542P). | The Honorable Angela Raiborn Mayor, City of Rusk 205 South Main Street Rusk, TX 75785. | Development Services Department 205 South Main Street Rusk, TX 75785. | https://msc.fema.gov/portal/advanceSearch. | Jun. 21, 2021 | 480124
Cherokee | Unincorporated areas of Cherokee County (20-06-2542P). | The Honorable Chris Davis Cherokee County Judge 135 South Main Street, 3rd Floor Rusk, TX 75785. | Cherokee County Emergency Management Department 135 South Main Street Rusk, TX 75785. | https://msc.fema.gov/portal/advanceSearch. | Jun. 21, 2021 | 480739
Harris | City of Houston (20-06-2232P). | The Honorable Sylvester Turner Mayor, City of Houston P.O. Box 1562 Houston, TX 77251. | Floodplain Management Department 1002 Washington Avenue Houston, TX 77002. | https://msc.fema.gov/portal/advanceSearch. | Jun. 21, 2021 | 480296
Harris | Unincorporated areas of Harris County (19-06-3656P). | The Honorable Lina Hidalgo Harris County Judge 1001 Preston Street, Suite 911 Houston, TX 77002. | Harris County Permit Office 10555 Northwest Freeway, Suite 120 Houston, TX 77092. | https://msc.fema.gov/portal/advanceSearch. | Jul. 26, 2021 | 480287
Kaufman | City of Terrell (20-06-3456P). | The Honorable Rick Carmona, Mayor, City of Terrell, P.O. Box 310, Terrell, TX 75160. | Engineering Department, 201 East Nash Street, Terrell, TX 75160. | https://msc.fema.gov/portal/advanceSearch. | Jul. 19, 2021 | 480416
Rockwall | City of Fate (20-06-3482P). | The Honorable David Billings, Mayor, City of Fate, P.O. Box 159, Fate, TX 75132. | Department of Planning and Development, 1900 CD Boren Parkway, Fate, TX 75087. | https://msc.fema.gov/portal/advanceSearch. | Jul. 19, 2021 | 480544
Rockwall | City of Rockwall (20-06-3482P). | Ms. Mary Smith, Interim Manager, City of Rockwall, 385 South Goliad Street, Rockwall, TX 75087. | Department of Public Works, Engineering Division, 385 South Goliad Street, Rockwall, TX 75087. | https://msc.fema.gov/portal/advanceSearch. | Jul. 19, 2021 | 480547
Smith | Unincorporated areas of Smith County (20-06-3422P). | The Honorable Nathaniel Moran Smith County Judge 200 East Ferguson Street, Suite 100 Tyler, TX 75702. | Smith County Bridge Department 1700 West Claude Street Tyler, TX 75702. | https://msc.fema.gov/portal/advanceSearch. | Jul. 14, 2021 | 481185
Virginia:
Loudoun | Town of Leesburg (21-03-0539P). | The Honorable Kelly Burk Mayor, Town of Leesburg 25 West Market Street Leesburg, VA 20176. | Department of Plan Review 25 West Market Street Leesburg, VA 20176. | https://msc.fema.gov/portal/advanceSearch. | Jul. 19, 2021 | 510091
Loudoun | Unincorporated areas of Loudoun County (21-03-0539P). | Mr. Tim Hemstreet, Loudoun County Administrator, P.O. Box 7000, Leesburg, VA 20177. | Loudoun County Planning and Zoning Department, 1 Harrison Street Southeast, Leesburg, VA 20175. | https://msc.fema.gov/portal/advanceSearch. | Jul. 19, 2021 | 510090
Stafford | Unincorporated areas of Stafford County (21-03-0356P). | Mr. Fred Presley, Stafford County Administrator, 1300 Courthouse Road, Stafford, VA 22554. | Stafford County Department of Public Works, Environmental Division, 2126 Jefferson Highway, Suite 203, Stafford, VA 22554. | https://msc.fema.gov/portal/advanceSearch. | Jul. 19, 2021 | 510154

[FR Doc. 2021-08696 Filed 4-26-21; 8:45 am]

BILLING CODE 9110-12-P